SECURITIES AND EXCHANGE COMMISSION

[Release No. 34-48627A; File No. SR-NASD-2003-130]

Self-Regulatory Organizations; Notice of Filing and Order Granting Accelerated Approval of a Proposed Rule Change and Amendment Nos. 1 and 2 Thereto by the National Association of Securities Dealers, Inc. Relating to Amendments to Its Recently Adopted Rules Regarding Shareholder Approval for Stock Option or Purchase Plans or Other Equity Compensation Arrangements

October 22, 2003.

Correction

In FR Document No. 03-26588, beginning on page 60426 in the issue for Wednesday, October 22, 2003, the proposed rule text for proposed NASD Rule 4350(i)(1)(A)(iv) did not accurately reflect the current rule text of the rule being amended. Proposed NASD Rule 4350(i)(1)(A)(iv) should read as follows:

(iv) issuances to a person not previously an employee or director of the company, or following a bonafide period of non-employment, as an inducement material to the individual's entering into employment with the company, provided such issuances are approved by either the issuer's independent compensation committee [comprised of a majority of independent directors] or a majority of the issuer's independent directors. Promptly following an issuance of any 2 employment inducement grant in reliance on this exception, a company must disclose in a press release the material terms of the grant, including the recipient(s) of the grant and the number of shares involved.

For the Commission, by the Division of Market Regulation, pursuant to delegated authority.¹
¹ 17 CFR 200.30-3(a)(12).
Margaret H. McFarland,
Deputy Secretary.

[FR Doc. C3-27137 Filed 10-27-03; 8:45 am]

BILLING CODE 8010-01-P